DEPARTMENT OF HEALTH AND HUMAN SERVICES

Centers for Disease Control and Prevention

Disease, Disability, and Injury Prevention and Control Special Emphasis Panel: Impact of Cultural and Socioeconomic Factors on Post-Treatment Surveillance Among African Americans With Colorectal Cancer, Potential Extramural Project 2008-R-03

Correction: This notice was published in the Federal Register on April 18, 2008, Volume 73, Number 76, page 21137. The aforementioned meeting has been rescheduled to the following:

Time and Date: 1 p.m.-3 p.m., June 11, 2008 (Closed).

Contact Person for More Information: Linda Shelton, Program Specialist, Coordinating Center for Health and Information Service, Office of the Director, CDC, 1600 Clifton Road, NE., Mailstop E21, Atlanta, GA 30333. Telephone (404) 498-1194.

The Director, Management Analysis and Services Office, has been delegated the authority to sign Federal Register notices pertaining to announcements of meetings and other committee management activities, for both CDC and the Agency for Toxic Substances and Disease Registry.

Dated: June 3, 2008.
Elaine L. Baker,
Director, Management Analysis and Services Office, Centers for Disease Control and Prevention.

[FR Doc. E8-12877 Filed 6-6-08; 8:45 am]

BILLING CODE 4163-18-P